INTERNATIONAL TRADE COMMISSION

[Inv. No. 337-TA-493]

Certain Zero-Mercury-Added Alkaline Batteries, Parts Thereof, and Products Containing Same; Notice of Commission Decision Not To Review an Initial Determination Terminating the Investigation as to One Respondent on the Basis of a Settlement Agreement and Consent Order; Issuance of Consent Order

AGENCY: International Trade Commission.

ACTION: Notice.

SUMMARY: Notice is hereby given that the U.S. International Trade Commission has determined not to review the presiding administrative law judge's (“ALJ's”) initial determination (“ID”) (Order No. 134) terminating the above-captioned investigation as to respondent Dorcy International, Inc. (“Dorcy”) on the basis of settlement agreement and a consent order.

FOR FURTHER INFORMATION CONTACT: Wayne Herrington, Esq., Office of the General Counsel, U.S. International Trade Commission, 500 E Street, SW., Washington, DC 20436, telephone (202) 205-3090. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 2, 2003, based on a complaint filed by Energizer Holdings, Inc. and Eveready Battery Company, Inc., both of St. Louis, Missouri. 68 FR. 32771 (June 2, 2003). The complaint, as supplemented, alleged violations of section 337 of the Tariff Act of 1930 in the importation into the United States, the sale for importation, and the sale within the United States after importation of certain zero-mercury-added alkaline batteries, parts thereof, and products containing same by reason of infringement of claims 1-12 of U.S. Patent No. 5,464,709 (“the '709 patent”). The complaint and notice of investigation named 26 respondents, including respondent Dorcy, and were later amended to include an additional firm as a respondent. The investigation was terminated as to claims 8-12 of the '709 patent. Prior to the issuance of the subject ID, several other respondents had been terminated from the investigation for various reasons.

On May 20, 2004, complainants and respondent Dorcy filed a joint motion pursuant to Commission rules 210.21(b) and (c) to terminate the investigation as to Dorcy on the basis of a settlement agreement and a consent order. The Commission investigative attorney supported the motion. On June 2, 2004, the ALJ issued the subject ID terminating the investigation as to Dorcy on the basis of settlement agreement and a consent order. No petitions for review of the ID were filed.

The authority for the Commission's determination is contained in section 337 of the Tariff Act of 1930, as amended (19 U.S.C. 1337), and in section 210.42 of the Commission's Rules of Practice and Procedure (19 CFR 210.42).

Issued: June 22, 2004.
By order of the Commission.
Marilyn R. Abbott,
Secretary to the Commission.

[FR Doc. 04-14557 Filed 6-25-04; 8:45 am]

BILLING CODE 7020-02-P